ENVIRONMENTAL PROTECTION AGENCY

40 CFR Part 52

[EPA-R07-OAR-2015-0356; FRL-9971-21-Region 7]

Approval of Missouri Air Quality Implementation Plans; Infrastructure SIP Requirements for the 2008 Ozone National Ambient Air Quality Standard; Withdrawal of Direct Final Rule

AGENCY: Environmental Protection Agency (EPA).

ACTION: Withdrawal of direct final rule.

SUMMARY: Due to adverse comments, the Environmental Protection Agency (EPA) is withdrawing the direct final rule for “Approval of Missouri Air Quality Implementation Plans; Infrastructure SIP Requirements for the 2008 Ozone National Ambient Air Quality Standard” published in the Federal Register on October 6, 2017. The direct final rule was an approval of a State Implementation Plan (SIP) revision from the State of Missouri for the 2008 Ozone National Ambient Air Quality Standard (NAAQS). Section 110 of the CAA requires that each state adopt and submit a SIP for the implementation, maintenance, and enforcement of each new or revised NAAQS promulgated by EPA. These SIPs are commonly referred to as “infrastructure” SIPs. The infrastructure requirements are designed to ensure that the structural components of each state's air quality management program are adequate to meet the state's responsibilities under the CAA.

DATES: The direct final rule published at 82 FR 46679, October 6, 2017, is withdrawn effective November 28, 2017.

FOR FURTHER INFORMATION CONTACT: Tracey Casburn, Environmental Protection Agency, Air Planning and Development Branch, 11201 Renner Boulevard, Lenexa, Kansas 66219 at (913) 551-7016, or by email at casburn.tracey@epa.gov.

SUPPLEMENTARY INFORMATION: Due to adverse comments, EPA is withdrawing the direct final rule to approve the states “infrastructure” SIP revision for the 2008 Ozone NAAQS. In the direct final rule published on October 6, 2017, (82 FR 46679), EPA stated that if it received adverse comment by November 6, 2017, the rule would be withdrawn and not take effect. EPA received adverse comments. EPA will address the comments in a subsequent final action based upon the proposed action also published on October 6, 2017 at 82 FR 46741. EPA will not institute a second comment period on this action.

List of Subjects in 40 CFR Part 52

Environmental protection, Air pollution control, Incorporation by reference, Intergovernmental relations, Nitrogen dioxide, Ozone, Reporting and recordkeeping requirements, Volatile organic compounds.

Dated: November 16, 2017.
James B. Gulliford,
Regional Administrator, Region 7.

Accordingly, the amendment to 40 CFR 52.1320(e) published on October 6, 2017 (82 FR 46679) is withdrawn effective November 28, 2017.

[FR Doc. 2017-25569 Filed 11-27-17; 8:45 am]

BILLING CODE 6560-50-P